DEPARTMENT OF COMMERCE

International Trade Administration

[A-351-503, C-351-504, A-122-503, A-570-502]

Certain Iron Construction Castings From Brazil, Canada, and the People's Republic of China: Continuation of Antidumping and Countervailing Duty Orders

AGENCY: Import Administration, International Trade Administration, Department of Commerce.

SUMMARY: As a result of the determinations by the Department of Commerce (“the Department”) that revocation of the antidumping duty (“AD”) orders on certain iron construction castings (“castings”) from Brazil, Canada, and the People's Republic of China (“PRC”) would likely lead to continuation or recurrence of dumping, that revocation of the countervailing duty (“CVD”) order on castings from Brazil would likely lead to continuation or recurrence of a countervailable subsidy, and the determinations by the International Trade Commission (“ITC”) that revocation of these AD and CVD orders would likely lead to a continuation or recurrence of material injury to an industry in the United States, the Department is publishing this notice of continuation of these AD and CVD orders.

DATES: Effective Date: November 19, 2010.

FOR FURTHER INFORMATION CONTACT: Minoo Hatten (AD orders) or Christopher Hargett (CVD order), AD/CVD Operations, Import Administration, International Trade Administration, U.S. Department of Commerce, 14th Street and Constitution Avenue, NW., Washington, DC 20230; telephone: (202) 482-1690 or (202) 482-4161, respectively.

SUPPLEMENTARY INFORMATION:

Background

On May 3, 2010, the Department initiated and the ITC instituted the third sunset reviews of the AD orders on castings from Brazil, Canada, and the PRC and the CVD order on castings from Brazil, pursuant to sections 751(c) and 752 of the Tariff Act of 1930, as amended (“the Act”), respectively. See Initiation of Five-Year (“Sunset”) Review, 75 FR 23240 (May 3, 2010). As a result of its reviews, the Department found that revocation of the AD orders would likely lead to continuation or recurrence of dumping and that revocation of the CVD order would be likely to lead to continuation or recurrence of subsidization, and the Department notified the ITC of the margins of dumping and the subsidy rates likely to prevail were the orders to be revoked. See Certain Iron Construction Castings From Brazil, Canada, and the People's Republic of China: Final Results of the Expedited Sunset Reviews of the Antidumping Duty Orders, 75 FR 54595 (September 8, 2010), and Final Results of Expedited Sunset Review: Heavy Iron Construction Castings from Brazil, 75 FR 54596 (September 8, 2010).

On November 2, 2010, the ITC determined that revocation of the AD orders on castings from Brazil, Canada, and the PRC and the CVD order on castings from Brazil would be likely to lead to continuation or recurrence of material injury within a reasonably foreseeable time. See Iron Construction Castings From Brazil, Canada, and China; Determinations, 75 FR 67395 (November 2, 2010), and USITC Publication 4191 (October 2010) entitled Iron Construction Castings From Brazil, Canada, and China (Investigation Nos. 701-TA-249 and 731-TA-262, 263, and 265 (Third Review)).

Scope of the Orders

The merchandise covered by the AD orders is as follows:

Brazil—Certain iron construction castings from Brazil, limited to manhole covers, rings, and frames, catch basin grates and frames, cleanout covers and frames used for drainage or access purposes for public utility, water and sanitary systems, classifiable as heavy castings under Harmonized Tariff Schedule (“HTS”) item number 7325.10.0010; and to valve, service, and meter boxes which are placed below ground to encase water, gas, or other valves, or water and gas meters, classifiable as light castings under HTS item number 7325.10.0050. The HTS item numbers are provided for convenience and customs purposes only. The written product description remains dispositive.

Canada—Certain iron construction castings from Canada, limited to manhole covers, rings, and frames, catch basin grates and frames, clean-out covers, and frames used for drainage or access purposes for public utility, water and sanitary systems, classifiable as heavy castings under HTS item number 7325.10.0010. The HTS item number is provided for convenience and customs purposes only. The written product description remains dispositive.

PRC—Certain iron construction castings from the PRC, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under HTS item numbers 7325.10.0010 and 7325.10.0050. The HTS item numbers are provided for convenience and customs purposes. The written product description remains dispositive.

The merchandise subject to the CVD order consists of certain heavy iron construction castings from Brazil. The merchandise is defined as manhole covers, rings and frames; catch basin grates and frames; and cleanout covers and frames used for drainage or access purposes for public utility, water and sanitary systems. The merchandise is currently classified under HTS item number 7325.10.00. The HTS item number is provided for convenience and customs purposes. The written product description remains dispositive.

Determinations

As a result of the determinations by the Department and the ITC that revocation of these AD and CVD orders would be likely to lead to continuation or recurrence of dumping or a countervailable subsidy and of material injury to an industry in the United States, pursuant to section 751(d)(2) of the Act, the Department hereby orders the continuation of the AD orders on castings from Brazil, Canada, and the PRC and the CVD order on castings from Brazil. U.S. Customs and Border Protection will continue to collect cash deposits at the rates in effect at the time of entry for all imports of subject merchandise. The effective date of continuation of these orders will be the date of publication in the Federal Register of this Notice of Continuation. Pursuant to sections 751(c)(2) and 751(c)(6) of the Act, the Department intends to initiate the next five-year reviews of these orders not later than October 2015.

These five-year (sunset) reviews and notice are in accordance with section 751(c) of the Act and published pursuant to section 777(i)(1) of the Act.

Dated: November 10, 2010.
Ronald K. Lorentzen,
Deputy Assistant Secretary for Import Administration.

[FR Doc. 2010-29265 Filed 11-18-10; 8:45 am]

BILLING CODE 3510-DS-P